DEPARTMENT OF COMMERCE

Foreign-Trade Zones Board

[B-62-2012]

Foreign-Trade Zone 12—McAllen, TX Notification of Proposed Export Production Activity TST NA Trim, LLC (Fabric/Leather Lamination and Cutting) Hidalgo, TX

The McAllen Foreign Trade Zone, Inc., grantee of FTZ 12, submitted a notification of proposed production activity on behalf of TST NA Trim, LLC (TST), located in Hidalgo, Texas. The notification conforming to the requirements of the regulations of the Board (15 CFR 400.22) was received on July 25, 2012.

A separate application for subzone status at the TST facility was submitted and will be processed under Section 400.31 of the Board's regulations. Activity at the facility involves the lamination and cutting of automotive upholstery material for export (no shipments for U.S. consumption would occur). Production under FTZ procedures could exempt TST from customs duty payments on the foreign status upholstery materials used in export production (100% of shipments). Customs duties also could possibly be deferred or reduced on foreign status production equipment.

Upholstery fabrics and material sourced from abroad include: laminated (polyurethane coated) polyester knit, polyester warp knit (pile), polyester and nylon warp knit, and leather (duty rate ranges from free to 17.2%).

Public comment is invited from interested parties. Submissions shall be addressed to the Board's Executive Secretary at the address below. The closing period for their receipt is September 24, 2012.

A copy of the notification will be available for public inspection at the Office of the Executive Secretary, Foreign-Trade Zones Board, Room 2111, U.S. Department of Commerce, 1401 Constitution Avenue NW., Washington, DC 20230-0002, and in the “Reading Room” section of the Board's Web site, which is accessible via www.trade.gov/ftz.

For further information, contact Pierre Duy at Pierre.Duy@trade.gov or (202) 482-1378.

Dated: August 8, 2012.
Andrew McGilvray,
Executive Secretary.

[FR Doc. 2012-19949 Filed 8-14-12; 8:45 am]

BILLING CODE P